SECURITIES AND EXCHANGE COMMISSION

[Release No. 35-27225]

Filings Under the Public Utility Holding Company Act of 1935, as amended (“Act”)

September 1, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by September 22, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice of order issued in the matter. After September 22, 2000, the application(s) and/or declaration(s), as filed or as amended, may be granted and/or permitted to become effective.

Dominion Resources, et al. [70-9679]

Dominion Resources, Inc. (“Dominion”), 120 Tredegar Street, Richmond, Virginia 23219, a registered holding company, and its wholly owned subsidiary Consolidated Natural Gas Company (“CNG”), CNG Tower, 625 Liberty Avenue, Pittsburgh, PA 15222-3199, also a registered holding company (together, “Applicants”), have filed an application-declaration under section 12(c) of the Act and rules 46 and 54 under the Act.

On January 28, 2000, CNG became a wholly owned subsidiary of Dominion (“Merger”).¹ As a result of the accounting treatment of the Merger, the retained earnings of CNG were recharacterized as paid-in-capital. Dominion now requests authorization to pay dividends out of the additional paid-in-capital account up to the amount of its aggregate retained earnings just prior to the Merger.

¹ Holding Co. Act Release No. 27113 (Dec. 15, 1999).

Applicants also seeks the ability to reorganize and restructure their nonutility businesses so that all nonutility subsidiaries engaged in similar activities can be part of the same intra-corporate grouping.

For the Commission, by the Division of Investment Management, pursuant to delegated authority.
Margaret H. McFarland,
Deputy Secretary.

[FR Doc. 00-23012 Filed 9-1-00 5:06 pm]

BILLING CODE 8010-01-M